DEPARTMENT OF AGRICULTURE

Forest Service

Forest Service Manual 2300—Recreation, Wilderness, and Related Resource Management, Chapter 2350—Trail, River, and Similar Recreation Opportunities, Section 2355—Climbing Opportunities; Extension of Comment Period

AGENCY: Forest Service, Agriculture (USDA).

ACTION: Notice of availability for public comment; extension of comment period.

SUMMARY: The Forest Service (Forest Service or Agency) published a notice in the Federal Register on November 17, 2023, initiating a 60-day comment period on the proposed directive Forest Service Manual 2300—Recreation, Wilderness, and Related Resource Management, chapter 2350—Trail, River, and Similar Recreation Opportunities, section 2355, Climbing Opportunities. The closing date of the original notice is scheduled for January 16, 2024. The Agency is extending the comment period for an additional 14 days from the previous closing date.

DATES: The comment period for the notice published November 17, 2023, at 88 FR 80269, is extended. Comments must be received in writing by January 30, 2024.

ADDRESSES: Comments may be submitted electronically to https://cara.fs2c.usda.gov/Public/CommentInput?project=ORMS-3524. Written comments may be mailed to Peter Mali, National Wilderness Program Manager, 1400 Independence Avenue SW, Washington, DC 20250-1124. All timely comments, including names and addresses, will be placed in the record and will be available for public inspection and copying. The public may inspect comments received at https://cara.fs2c.usda.gov/Public/ReadingRoom?project=ORMS-3524.

FOR FURTHER INFORMATION CONTACT: Peter Mali, National Wilderness Program Manager, SM.FS.ClimbDir@usda.gov, (202) 823-0773. Individuals who use telecommunications devices for the hearing impaired may call the Federal Relay Service at 800-877-8339, 24 hours a day, every day of the year, including holidays.

SUPPLEMENTARY INFORMATION: Climbing is a growing sport in the United States. According to the Outdoor Industry Association's 2022 Report on Outdoor Participation Trends, there were nearly 10.3 million climbers in the United States in 2021. Approximately 30 percent of outdoor climbing in the United States occurs on NFS lands. In recent years, line officers have expressed concerns about climbing-related impacts on resources and conflicts among uses. Current Forest Service directives do not provide guidance for climbing opportunities on NFS lands. The Joint Explanatory Statement accompanying the 2021 Consolidated Appropriations Act directs the Forest Service to issue general guidance on climbing opportunities on NFS lands, including the application of the Wilderness Act (16 U.S.C. 1131-1136) to climbing opportunities and appropriate use of fixed anchors and fixed equipment in wilderness. To address impacts associated with increased climbing on NFS lands and consistent with the Joint Explanatory Statement, the Forest Service is proposing revisions to its directives to provide guidance on climbing opportunities on NFS lands.

The proposed directive would provide guidance on climbing opportunities inside and outside wilderness on NFS lands and would provide for climbing opportunities that serve visitor needs; meet land management and recreation policy objectives; emphasize the natural setting of NFS lands; align with natural and cultural resource protection and the Agency's responsibility to Indian Tribes; and are consistent with applicable law, directives, and the applicable land management plan.

The proposed directive would add a new section, 2355, to Forest Service Manual (FSM) 2300—Recreation, Wilderness, and Related Resource Management, chapter 2350—Trail, River, and Similar Recreation Opportunities, which would provide that climbing is an appropriate use of NFS lands (proposed FSM 2355.03, para. 1)—including in wilderness—when conducted in accordance with applicable law and Forest Service directives and consistent with the applicable land management plan (proposed FSM 2355.03, para. 4); that a climbing management plan be developed, as funding and resources allow, for climbing opportunities in wilderness, and for climbing opportunities outside wilderness where the District Ranger determines that climbing is causing adverse resource impacts or use conflicts (proposed FSM 2355.21); that fixed anchors and fixed equipment are installations for purposes of section 4(c) of the Wilderness Act (16 U.S.C. 1133(c)) (proposed FSM 2355.32, para. 1); that a Forest Supervisor may authorize the placement or replacement of fixed anchors and fixed equipment in wilderness based on a case-specific determination that they are the minimum necessary for administration of the area for Wilderness Act purposes, including primitive or unconfined recreation and preservation of wilderness character (proposed FSM 2355.32, para. 1); that existing fixed anchors and fixed equipment in wilderness may be retained pending completion of a Minimum Requirements Analysis, as funding and resources allow, that determines they are the minimum necessary to facilitate primitive or unconfined recreation or otherwise preserve wilderness character (FSM 2355.32, para. 5);); and that the issuance and administration of special use permits are encouraged to enhance visitor access to climbing opportunities and visitor education concerning low impact climbing practices (proposed FSM 2355.03, para. 9).

To allow for enforcement of restrictions and prohibitions in climbing management plans as needed, the Forest Service will be proposing revisions via a separate Federal Register notice to its regulations at 36 CFR part 261, subpart A, General Prohibitions.

The minimum 120-day Tribal consultation for the proposed directive was initiated November 8, 2021, and will conclude at the end of the comment period for the proposed directive.

To ensure that all members of the public who have an interest in NFS climbing opportunities have the opportunity to provide comment, we are extending the comment period on the proposed directive to January 30, 2024.

After the public comment period closes, the Forest Service will consider timely comments that are within the scope of the proposed directive in the development of the final directive. A notice of the final directive, including a response to timely comments, will be posted on the Forest Service's web page at https://www.fs.usda.gov/about-agency/regulations-policies/comment-on-directives.

Dated: January 4, 2024.
Jacqueline Emanuel,
Associate Deputy Chief, National Forest System.

[FR Doc. 2024-00312 Filed 1-9-24; 8:45 am]

BILLING CODE 3411-15-P